NEIGHBORHOOD REINVESTMENT CORPORATION

Sunshine Act Meetings; Audit Committee Meeting

TIME & DATE: 2:00 p.m., Friday, November 5, 2021.

PLACE: Via Conference Call.

STATUS: Parts of this meeting will be open to the public. The rest of the meeting will be closed to the public.

MATTERS TO BE CONSIDERED: Audit Committee Meeting.

The General Counsel of the Corporation has certified that in his opinion, one or more of the exemptions set forth in the Government in the Sunshine Act, 5 U.S.C. 552b (c)(2) and (4) permit closure of the following portion(s) of this meeting:

• Executive Session

Agenda

I. Call To Order

II. FY21 External Audit—BDO

III. Sunshine Act Approval of Executive (Closed) Session

IV. Other Matter

V. Executive Session with Chief Audit Executive

VI. Action Item FY22 Internal Audit Plan

VII. Action Item Internal Audit Reports with Management's Response

a. Promotion and Compensation

b. Grant Appropriation Disbursements

c. Project Reinvest and Wind Down

d. Application and Systems Change Management

e. Covid 19: Procurement Adaptation Review

VIII. Internal Audit Reports Awaiting Management's Response

HPN Launchpad Code Acquisition

IX. Internal Audit Status Reports

a. Identity Access Management (IAM) Development ITS Audit and Security Roadmap

b. TeamMate+ Migration Timeline—Key Activities Deliverables

c. Internal Audit Performance Scorecard

d. FY21 Plan Projects' Activity Summary as of October 8, 2021

e. Implementation of Internal Audit Recommendations

X. Adjournment

CONTACT PERSON FOR MORE INFORMATION: Lakeyia Thompson, Special Assistant, (202) 524-9940; Lthompson@nw.org.

Lakeyia Thompson,
Special Assistant.

[FR Doc. 2021-23677 Filed 10-27-21; 11:15 am]

BILLING CODE 7570-02-P